DEPARTMENT OF TRANSPORTATION

National Highway Traffic Safety Administration

[Docket No. NHTSA-2020-0004]

Agency Information Collection Activities; Submission to the Office of Management and Budget for Review and Approval; Petitions for Exemption From the Vehicle Theft Prevention Standard

AGENCY: National Highway Traffic Safety Administration (NHTSA), Department of Transportation (DOT).

ACTION: Notice and request for comments on a reinstatement of a previously approved information collection.

SUMMARY: In compliance with the Paperwork Reduction Act of 1995 (PRA), this notice announces that the Information Collection Request (ICR) summarized below has been forwarded to the Office of Management and Budget (OMB) for review and approval. The ICR describes the nature of the information collections and their expected burden. The Federal Register Notice with a 60-day comment period for approval of a reinstatement of this previously approved information collection was published on August 20, 2020. The agency received no comments.

DATES: Comments must be submitted on or before April 15, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: Carlita Ballard at the National Highway Traffic Safety Administration, Office of International Policy, Fuel Economy and Consumer Programs (NRM-310), 1200 New Jersey Ave. SE, West Building, Room W43-439, Washington, DC 20590. Ms. Ballard's telephone number is (202) 366-5222. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

A Federal Register notice with a 60-day comment period soliciting public comments on the following information collection was published on August 20, 2020 (85 FR 51548).

Title: Petitions for Exemption from the Vehicle Theft Prevention Standard (49 CFR part 543).

OMB Control Number: 2127-0542.

Type of Request: Reinstatement of a previously approved information collection.

Type of Review Requested: Regular.

Length of Approval Requested: Three years.

Affected Public: Motor vehicle manufacturers.

Summary of Information Collection: 49 U.S.C. Chapter 331 requires the Secretary of Transportation, and NHTSA by delegation, to promulgate a theft prevention standard to provide for the identification of certain motor vehicles and their major replacement parts (parts-marking) to impede motor vehicle theft. NHTSA's theft prevention standard at 49 CFR part 541 specifies performance requirements for identifying numbers or symbols (generally the vehicle identification number (VIN)) to be placed on major parts of all passenger vehicles subject to the theft prevention standard. 49 U.S.C. 33106 allows manufacturers who equip covered vehicles with standard original equipment antitheft devices to petition for an exemption from the parts-marking requirements. NHTSA may exempt a vehicle line from the parts-marking requirement if the manufacturer installs an antitheft device as standard equipment on the entire vehicle line for which it seeks an exemption, and NHTSA determines that the antitheft device is likely to be as effective in reducing and deterring motor vehicle theft as compliance with the parts-marking requirements.

Under the current part 543, manufacturers choose how they wish to demonstrate to the agency that the anti-theft device they are installing in a vehicle line meets the requirements for exemption: By either the factors listed in § 543.6 (specific content requirements: Detailed lists, data, and explanations) or by the criteria listed in § 543.7 (performance criteria). Section 543.6 requires the manufacturer to submit: (1) A statement that an antitheft device will be installed as standard equipment on all vehicles in the line for which an exemption is sought; (2) a list naming each component in the antitheft system, and a diagram showing the location of each of those components within the vehicle; (3) a discussion that explains the means and process by which the device is activated and functions, including any aspect of the device designed to facilitate or encourage its activation by motorists, attract attention to the efforts of an unauthorized person to enter or move the vehicle by means other than a key, prevent defeating or circumventing the device by an unauthorized person attempting to enter a vehicle by means other than a key, prevent the operation of a vehicle which an unauthorized person has entered using means other than a key, and ensure the reliability and durability of the device; (4) the reasons for the petitioner's belief that the antitheft device will be effective in reducing and deterring motor vehicle theft, including any theft data and other data that are available to the petitioner and form the basis for that belief; (5) the reasons for the petitioner's belief that the agency should determine that the antitheft device is likely to be as effective as compliance with the parts-marking requirements of part 541 in reducing and deterring motor vehicle theft, including any statistical data that are available to the petitioner and form a basis for petitioner's belief that a line of passenger motor vehicles equipped with the antitheft device is likely to have a theft rate equal to or less than that of passenger motor vehicles of the same, or similar, line which have parts marked in compliance with part 541.

Section 543.7 requires manufacturers to submit a statement that the entire line of vehicles is equipped with an immobilizer, as standard equipment, that meets one of the following: (1) The performance criteria of (subsections 8 through 21) of C.R.C, c. 1038.114, Theft Protection and Rollaway Prevention (in effect March 30, 2011), as excerpted in appendix A of this part; (2) National Standard of Canada CAN/ULC-S338-98, Automobile Theft Deterrent Equipment and Systems: Electronic Immobilization (May 1998); (3) United Nations Economic Commission for Europe (UN/ECE) Regulation No. 97 (ECE R97), Uniform Provisions Concerning Approval of Vehicle Alarm System (VAS) and Motor Vehicles with Regard to Their Alarm System (AS) in effect August 8, 2007; or (4) UN/ECE Regulation No. 116 (ECE R116), Uniform Technical Prescriptions Concerning the Protection of Motor Vehicles Against Unauthorized Use in effect on February 10, 2009. Manufacturers must also submit documentation kept to demonstrate that the device conforms with the performance criteria and a statement that the immobilizer device is durable and reliable.

Description of the Need for the Information and Proposed Use of the Information: NHTSA requires this information to determine whether an anti-theft device a manufacturer is installing in a vehicle line is likely to be as effective in reducing and deterring motor vehicle theft as compliance with the parts-marking requirements and therefore meets the requirements for the grant of an exemption from part 541 parts-marking requirements.

Estimated Number of Respondents: 12.

There are approximately 23 vehicle manufacturers that could request an exemption per model year. For MYs 2017-2020, the agency received 32 petitions for exemption from the parts-marking requirements, with 12 of those petitions received in the most recent year. Nine respondents filed under § 543.6 and three respondents filed under § 543.7. NHTSA anticipates that the number of petitions received in each of the next three years will be the same as the number of petitions received in the most recent year, i.e., approximately 12 per year.

Estimated Total Annual Burden Hours: 2,094.

NHTSA estimates, based on information provided by manufacturers, that 226 hours will be required for exemptions requested under § 543.6, and 20 hours for exemptions requested under § 543.7. The agency expects that, similar to 2020, nine manufacturers will choose to file for an exemption under § 543.6 and three manufacturers will choose to file for an exemption under § 543.7. The estimated total annual burden hours are shown below:

| Average number of petitions per year | Average time per petition submittal (hours) | Total annual hours
Preparation and Submittal of Petition for Exemption under § 543.6 | 9 | 226 | 2,034
Preparation and Submittal of Petition for Exemption under § 543.7 | 3 | 20 | 60
Estimated Total Annual Burden Hours: |  |  | 2,094

The labor cost associated with the burden hours for this collection is derived by (1) applying appropriate average hourly labor rate for “Compliance Officers,” Occupation Code 13-1041, published by the Bureau of Labor Statistics,¹ (2) dividing by 0.701 ² (70.1%) to obtain the total compensation rate for private industry workers, and (3) multiplying by the estimated labor hours for each exemption type.

¹ May 2018 National Occupational Employment and Wage Estimates, United States. Business and Financial Operations Occupations, Compliance Officers, Occupation Code 13-1041; Mean Hourly Wage = $34.86. https://www.bls.gov/oes/current/oes_nat.htm. Accessed Mar. 9, 2020.

² See Table 1 at https://www.bls.gov/news.release/ecec.t01.htm.

| Hourly labor cost | Average time per petition submittal (hours) | Labor cost/petition | Estimated No. of Petitions/Year | Annual labor cost
Preparation and Submittal of Petition for Exemption under § 543.6 | $49.73 | 226 | $11,238.98 | 9 | $101,151
Preparation and Submittal of Petition for Exemption under § 543.7 | 49.73 | 20 | 994.60 | 3 | 2,984
Estimated Annual Labor Cost for This Information Collection: |  |  |  |  | $104,135

Estimated Total Annual Burden Cost to Respondents: $0.

NHTSA estimates that there will be no costs to respondents other than labor costs associated with burden hours.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

(Authority: The Paperwork Reduction Act of 1995; 44 U.S.C. Chapter 35, as amended; 49 CFR 1.49; and DOT Order 1351.29)

Issued in Washington, DC.
Raymond R. Posten,
Associate Administrator for Rulemaking.

[FR Doc. 2022-05574 Filed 3-15-22; 8:45 am]

BILLING CODE 4910-59-P